DEPARTMENT OF DEFENSE

Department of the Navy

Notice of Availability of Record of Decision for the Gulf of Alaska Navy Training Activities Supplemental Environmental Impact Statement/Overseas Environmental Impact Statement

AGENCY: Department of the Navy (DoN), Department of Defense (DoD).

ACTION: Notice of availability.

SUMMARY: The United States DoN, after carefully weighing the strategic, operational, and environmental consequences of the Proposed Action (Gulf of Alaska Navy Training Activities Final Supplemental Environmental Impact Statement/Overseas Environmental Impact Statement [EIS/OEIS], published in the Federal Register on September 2, 2022), is announcing its decision to continue periodic military training activities within the Gulf of Alaska Temporary Maritime Activities Area and Western Maneuver Area, collectively referred to as the Gulf of Alaska Study Area, as identified in Alternative 1, the DoN's Preferred Alternative, in the Gulf of Alaska Navy Training Activities Final Supplemental EIS/OEIS.

ADDRESSES: The complete text of the Record of Decision (ROD) is available on the project website at www.GOAEIS.com, along with the September 2022 Final Supplemental EIS/OEIS and supporting documents. Printed copies of the Final Supplemental EIS/OEIS and ROD are also available for viewing at the Alaska State (Juneau), Copper Valley Community (Glennallen), Cordova, Homer, Kodiak, Seward Community, University of Alaska Fairbanks/Elmer E. Rasmuson, and Z.J. Loussac (Anchorage) libraries. Single copies of the ROD are available upon request by contacting: Naval Facilities Engineering Systems Command Northwest, Attention: GOA Supplemental EIS/OEIS Project Manager, 1101 Tautog Circle, Suite 203, Silverdale, WA 98315-1101.

SUPPLEMENTARY INFORMATION: Implementation of Alternative 1, the Preferred Alternative, will allow the DoN to fully meet current and future requirements in the Gulf of Alaska Study Area. Training activities include the use of active sound navigation and ranging, known as sonar, in the Temporary Maritime Activities Area and weapon systems at sea that may use non-explosive or explosive munitions. Training will be conducted in the manner and at the intensity as described in Alternative 1. Implementation of this Preferred Alternative will enable the DoN and other U.S. military services to best meet their respective missions. The DoN's mission, under Title 10 United States Code Section 8062, is to maintain, train, and equip combat-ready military forces capable of winning wars, deterring aggression, and maintaining freedom of the seas. The DoN will continue to implement standard operating procedures and mitigation measures, including the implementation of a new mitigation area within the continental shelf and slope of the Temporary Maritime Activities Area, and adhere to management plans and monitoring requirements to avoid or reduce potential environmental impacts during training activities.

Dated: December 27, 2022.
A.R. Holt,
Lieutenant Commander Judge Advocate General's Corps, U.S. Navy, Federal Register Liaison Officer.

[FR Doc. 2022-28429 Filed 1-3-23; 8:45 am]

BILLING CODE 3810-FF-P